DEPARTMENT OF ENERGY

Federal Energy Regulatory Commission

Combined Notice of Filings #1

Take notice that the Commission received the following electric rate filings:

Docket Numbers: ER14-1480-001.

Applicants: KMC Thermo, LLC.

Description: KMC Thermo, LLC submits supplemental information to its May 31, 2022, Informational Filing Pursuant to Schedule 2 of PJM.

Filed Date: 7/13/22.

Accession Number: 20220713-5213.

Comment Date: 5 p.m. ET 7/27/22.

Docket Numbers: ER22-1917-001.

Applicants: Midcontinent Independent System Operator, Inc., Ameren Transmission Company of Illinois.

Description: Tariff Amendment: Midcontinent Independent System Operator, Inc. submits tariff filing per 35.17(b): 2022-07-18_SA 3826 ATXI-AECI Substitute TIA to be effective 5/21/2022.

Filed Date: 7/18/22.

Accession Number: 20220718-5096.

Comment Date: 5 p.m. ET 8/8/22.

Docket Numbers: ER22-2388-000.

Applicants: Mississippi Power Company.

Description: § 205(d) Rate Filing: MRA 30 Rate Case Filing to be effective 7/15/2022.

Filed Date: 7/15/22.

Accession Number: 20220715-5164.

Comment Date: 5 p.m. ET 8/5/22.

Docket Numbers: ER22-2389-000.

Applicants: Southwest Power Pool, Inc.

Description: § 205(d) Rate Filing: 3719 Chilocco Wind Farm GIA Cancellation to be effective 7/5/2022.

Filed Date: 7/18/22.

Accession Number: 20220718-5013.

Comment Date: 5 p.m. ET 8/8/22.

Docket Numbers: ER22-2390-000.

Applicants: American Illuminating Company, LLC.

Description: Tariff Amendment: Cancellation of Market Based Rate Tariff to be effective 7/19/2022.

Filed Date: 7/18/22.

Accession Number: 20220718-5024.

Comment Date: 5 p.m. ET 8/8/22.

Docket Numbers: ER22-2391-000.

Applicants: Pedricktown Cogeneration Company LP.

Description: Tariff Amendment: Notice of Cancellation to be effective 7/19/2022.

Filed Date: 7/18/22.

Accession Number: 20220718-5067.

Comment Date: 5 p.m. ET 8/8/22.

Docket Numbers: ER22-2392-000.

Applicants: Arlington Solar, LLC.

Description: § 205(d) Rate Filing: Arlington Solar, LLC First Amendment SFA with Arlington Solar II & III to be effective 9/17/2022.

Filed Date: 7/18/22.

Accession Number: 20220718-5073.

Comment Date: 5 p.m. ET 8/8/22.

Docket Numbers: ER22-2393-000.

Applicants: Northern Indiana Public Service Company LLC.

Description: § 205(d) Rate Filing: TDSIC WVPA CIAC Agreement to be effective 7/29/2022.

Filed Date: 7/18/22.

Accession Number: 20220718-5088.

Comment Date: 5 p.m. ET 8/8/22.

Docket Numbers: ER22-2394-000.

Applicants: Midcontinent Independent System Operator, Inc., American Transmission Company LLC.

Description: § 205(d) Rate Filing: Midcontinent Independent System Operator, Inc. submits tariff filing per 35.13(a)(2)(iii: 2022-07-18_SA 3866 ATC-Whitetail E&P (J1374) to be effective 7/19/2022.

Filed Date: 7/18/22.

Accession Number: 20220718-5103.

Comment Date: 5 p.m. ET 8/8/22.

Docket Numbers: ER22-2395-000.

Applicants: PacifiCorp.

Description: § 205(d) Rate Filing: BPA NITSA—(Idaho Falls Power) Rev 6 to be effective 7/1/2022.

Filed Date: 7/18/22.

Accession Number: 20220718-5107.

Comment Date: 5 p.m. ET 8/8/22.

Docket Numbers: ER22-2396-000.

Applicants: Sapphire Sky Wind Energy LLC.

Description: § 205(d) Rate Filing: Revised Market-Based Rate Tariff Filing to be effective 9/17/2022.

Filed Date: 7/18/22.

Accession Number: 20220718-5133.

Comment Date: 5 p.m. ET 8/8/22.

Docket Numbers: ER22-2397-000.

Applicants: Number Three Wind LLC.

Description: § 205(d) Rate Filing: Revised Market-Based Rate Tariff Filing to be effective 9/17/2022.

Filed Date: 7/18/22.

Accession Number: 20220718-5134.

Comment Date: 5 p.m. ET 8/8/22.

Docket Numbers: ER22-2398-000.

Applicants: New England Power Company.

Description: § 205(d) Rate Filing: 2022-07-18 Filing TSA-NEP-110 Schedule 20A Phase I/II HVDC-TF Service Agreement to be effective 12/31/9998.

Filed Date: 7/18/22.

Accession Number: 20220718-5135.

Comment Date: 5 p.m. ET 8/8/22.

Docket Numbers: ER22-2399-000.

Applicants: Phobos Solar, LLC.

Description: Baseline eTariff Filing: Phobos Solar, LLC MBR Tariff to be effective 8/31/2022.

Filed Date: 7/18/22.

Accession Number: 20220718-5136.

Comment Date: 5 p.m. ET 8/8/22.

Docket Numbers: ER22-2400-000.

Applicants: PGR 2021 Lessee 11, LLC.

Description: Baseline eTariff Filing: PGR 2021 Lessee 11, LLC MBR Tariff to be effective 8/31/2022.

Filed Date: 7/18/22.

Accession Number: 20220718-5137.

Comment Date: 5 p.m. ET 8/8/22.

Docket Numbers: ER22-2401-000.

Applicants: Cabin Creek Solar, LLC.

Description: Baseline eTariff Filing: Cabin Creek Solar, LLC MBR Tariff to be effective 8/31/2022.

Filed Date: 7/18/22.

Accession Number: 20220718-5140.

Comment Date: 5 p.m. ET 8/8/22.

Docket Numbers: ER22-2402-000.

Applicants: NSTAR Electric Company.

Description: Compliance filing: Park City Wind LLC—Settlement Transmission Support Agreement to be effective 3/3/2022.

Filed Date: 7/18/22.

Accession Number: 20220718-5141.

Comment Date: 5 p.m. ET 8/8/22.

Docket Numbers: ER22-2403-000.

Applicants: PGR 2021 Lessee 12, LLC.

Description: Baseline eTariff Filing: PGR 2021 Lessee 12, LLC MBR Tariff to be effective 8/31/2022.

Filed Date: 7/18/22.

Accession Number: 20220718-5143.

Comment Date: 5 p.m. ET 8/8/22.

Docket Numbers: ER22-2404-000.

Applicants: Gunsight Solar, LLC.

Description: Baseline eTariff Filing: Gunsight Solar, LLC MBR Tariff to be effective 8/31/2022.

Filed Date: 7/18/22.

Accession Number: 20220718-5144.

Comment Date: 5 p.m. ET 8/8/22.

Docket Numbers: ER22-2405-000.

Applicants: PGR 2021 Lessee 15, LLC.

Description: Baseline eTariff Filing: PGR 2021 Lessee 15, LLC MBR Tariff to be effective 8/31/2022.

Filed Date: 7/18/22.

Accession Number: 20220718-5145.

Comment Date: 5 p.m. ET 8/8/22.

Docket Numbers: ER22-2406-000.

Applicants: Allora Solar, LLC.

Description: Baseline eTariff Filing: Allora Solar, LLC MBR Tariff to be effective 8/31/2022.

Filed Date: 7/18/22.

Accession Number: 20220718-5146.

Comment Date: 5 p.m. ET 8/8/22.

Docket Numbers: ER22-2407-000.

Applicants: PGR 2021 Lessee 19, LLC.

Description: Baseline eTariff Filing: PGR 2021 Lessee 19, LLC MBR Tariff to be effective 8/31/2022.

Filed Date: 7/18/22.

Accession Number: 20220718-5147.

Comment Date: 5 p.m. ET 8/8/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: July 18, 2022.
Debbie-Anne A. Reese,
Deputy Secretary.

[FR Doc. 2022-15717 Filed 7-21-22; 8:45 am]

BILLING CODE 6717-01-P